DEPARTMENT OF JUSTICE

Notice of Lodging of a Consent Decree Under the Clean Water Act

Notice is hereby given that on January 6, 2011, a proposed Consent Decree in United States and State of Indiana v. City of Evansville, Indiana and Evansville Water and Sewer Utility Board, Civil Action No. 3:09-CV-128, was lodged with the United States District Court for the Southern District of Indiana.

In this action the United States and the State of Indiana seek civil penalties and injunctive relief for violations of the Clean Water Act, 33 U.S.C. 1251 et seq., in connection with the City of Evansville's operation of its municipal wastewater and sewer system. The United States' and State of Indiana's Complaint alleges that Evansville violated the Clean Water Act and Indiana law by, inter alia: (1) Discharging untreated sewage in such a way as to cause violations of applicable water quality standards for E. coli in the receiving streams; (2) discharging untreated sewage from the combined sewer collection system during dry weather into “waters of the United States” and “waters of the state”; (3) failing to maximize treatable flow to the city's two wastewater treatment plants, known as the “East Plant” and the “West Plant,” during wet weather events, causing discharges of untreated sewage from combined sewer overflow (“CSO”) outfalls during times when there is remaining treatment capacity at the East Plant and the West Plant; (4) failing to properly operate and maintain the city's combined sewer and separate sanitary sewer collection systems in violation of the city's two NPDES permits; (5) illegally discharging untreated sewage from the city's sanitary sewer collection systems into navigable waters and their tributaries in violation of the city's two NPDES permits; (6) creating an imminent and substantial endangerment by releasing sewage onto public and private property and into residential dwellings and other buildings; and (7) failing to adequately report discharges from the collection system and CSO outfalls in violation of the reporting provisions in the city's NPDES permits.

Under the proposed Decree, the City will be required to remedy the deficiencies in the capacity, operation and maintenance of Evansville's East Plant and West Plant, combined sewer system, and sanitary sewer system at a cost that may exceed $500 million. Evansville must make these improvements by calendar year 2032 or, if Evansville demonstrates a lack of financial capability, by calendar year 2037. In addition, the proposed Decree requires Evansville to pay the United States a civil penalty of $420,000 and the State of Indiana a civil penalty of $70,000, and spend an estimated $4 million to connect homes with failing septic systems to the city's sewer system.

The Department of Justice will receive for a period of thirty (30) days from the date of this publication comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to United States and State of Indiana v. City of Evansville, Indiana, D.J. Ref. 90-5-1-1-08738.

The proposed Consent Decree may be examined at the Office of the United States Attorney, Southern District of Indiana, 10 W. Market Street, Suite 2100, Indianapolis, IN 46204 (contact Assistant United States Attorney Tom Kieper (317/226-6333)), and at U.S. Environmental Protection Agency, Region 5, 77 West Jackson Boulevard, Chicago, IL 60604-3590 (contact Associate Regional Counsel Nicole Cantello (312/886-2870)). During the public comment period, the proposed Consent Decree may also be examined on the following Department of Justice Web site: http://www.usdoj.gov/enrd/Consent_Decrees.html. A copy of the proposed consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $26.50 (25 cents per page reproduction cost) payable to the U.S. Treasury or, if by e-mail or fax, forward a check in that amount to the Consent Decree Library at the stated address.

Maureen M. Katz,
Assistant Chief, Environmental Enforcement Section, Environment and Natural Resources Division.

[FR Doc. 2011-973 Filed 1-18-11; 8:45 am]

BILLING CODE 4410-15-P